DEPARTMENT OF HEALTH AND HUMAN SERVICES

National Institutes of Health

National Cancer Institute; Amended Notice of Meeting

Notice is hereby given of a change in the meeting of the National Cancer Institute Special Emphasis Panel, March 25, 2013, 8:00 a.m. to March 25, 2013, 5:00 p.m., Hilton Washington DC North—Gaithersburg, 620 Perry Parkway, Gaithersburg, MD, 20877 which was published in the Federal Register on January 14, 2013, 78 FR 5190.

This notice is being amended to change the title to “Novel Imaging Agents to Expand the Clinical Toolkit”. The meeting is closed to the public.

Dated: February 6, 2013.
Melanie J. Gray,
Program Analyst, Office of Federal Advisory Committee Policy.

[FR Doc. 2013-03114 Filed 2-11-13; 8:45 am]

BILLING CODE 4140-01-P